DEPARTMENT OF JUSTICE

Antitrust Division

Notice Pursuant to the National Cooperative Research and Production Act of 1933—ASIS International

Notice is hereby given that, on September 20, 2004, pursuant to section 6(a) of the National Cooperative Research and Production Act of 1993, 15 U.S.C. 4301 et seq. (“the Act”), ASIS International (“ASIS”) has filed written notifications simultaneously with the Attorney General and the Federal Tarde Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: ASIS International, Alexandria, VA. The nature and scope of ASIS' standards development activities are: Security guidelines that address specific concerns and issues related to security in order to increase the effectiveness and productivity of risk mitigation security practices and solutions.

Dorothy B. Fountain,
Deputy Director of Operations, Antitrust Division.

[FR Doc. 04-27072 Filed 12-9-04; 8:45 am]

BILLING CODE 4410-11-M